DEPARTMENT OF ENERGY

Federal Energy Regulatory Commission

[Docket No. IC25-14-000]

Commission Information Collection Activities (Ferc-500 and Ferc-505); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collections, FERC-500 (Application for License/Relicense for Water Projects with More than 10 Megawatt (MW) Capacity); and FERC-505 (Application for Small Hydropower Projects and Conduit Facilities including License/Relicense, Exemption, and Qualifying Conduit Facility Determinations). There are no program changes.

DATES: Comments on the collections of information are due October 27, 2025.

ADDRESSES: Send written comments on FERC-500 to OMB through https://www.reginfo.gov/public/do/PRA/icrPublicCommentRequest?ref_nbr=202508-1902-001 or FERC 505 through https://www.reginfo.gov/public/do/PRA/icrPublicCommentRequest?ref_nbr=202508-1902-002. You can also visit https://www.reginfo.gov/public/do/PRAMain and use the drop-down under “Currently under Review” to select the “Federal Energy Regulatory Commission” where you can see the open opportunities to provide comments. Comments should be sent within 30 days of publication of this notice.

Please submit a copy of your comments to the Commission via email to DataClearance@FERC.gov. You must specify the Docket No. (IC25-14-000) and the FERC Information Collection number (FERC-500 and 505) in your email. If you are unable to file electronically, comments may be filed by USPS mail or by hand (including courier) delivery:

• Mail via U.S. Postal Service Only: Federal Energy Regulatory Commission, Secretary of the Commission, 888 First Street NE, Washington, DC 20426.

• All other delivery methods: Federal Energy Regulatory Commission, Secretary of the Commission, 12225 Wilkins Avenue, Rockville, MD 20852.

Docket: To view comments and issuances in this docket, please visit https://elibrary.ferc.gov/eLibrary/search. Once there, you can also sign-up for automatic notification of activity in this docket.

FOR FURTHER INFORMATION CONTACT: Kayla Williams, (202) 502-6468. DataClearance@FERC.gov.

SUPPLEMENTARY INFORMATION:

Titles: FERC-500 (Application for License/Relicense for Water Projects with More than 10 Megawatt (MW) Capacity) and FERC-505 (Application for Small Hydropower Projects and Conduit Facilities including License/Relicense, Exemption, and Qualifying Conduit Facility Determination).

OMB Control Nos.: 1902-0058 (FERC-500) and 1902-0115 (FERC-505).

Type of Request: Extension of currently approved information collections.

Abstract: Part I of the Federal Power Act (FPA) ¹ authorizes the Commission to grant hydropower licenses and exemptions to citizens of the United States, or to any corporation organized under the laws of United States or any State thereof, or to any State or municipality. Holders of such licenses and exemptions construct, operate, and maintain dams, water conduits, reservoirs, power houses, transmission lines, or other project works necessary or convenient for the development and improvement of navigation and for the development, transmission, and utilization of power across, along, from, or in any of the streams or other bodies of water over which Congress has jurisdiction. This jurisdiction stems from Congressional authority to regulate commerce with foreign nations and among the several States, or upon any part of the public lands and reservations of the United States.

¹ 16 U.S.C. 791a-823g.

FERC-500 and FERC-505 comprise applications and other information collection activities implemented under numerous regulations. Some of the regulations are relevant to both FERC-500 and FERC-505, and others are relevant only to FERC-500 or FERC-505. Effective October 4, 2021, information collection activities within FERC-500 are for projects with an installed capacity of more than 10 MW. Information collection activities within FERC-505 are for other smaller projects.

As required by OMB regulations at 5 CFR 1320.8(d), the Commission provided a 60-day notice of its renewal request in the Federal Register on July 23, 2025 (90 FR 34648). The public-comment period expired on September 22, 2025. No comments were received.

The following table lists information collection activities pertaining to applications and notices of intent. The table is organized as pairs of regulations that address, respectively, applicability and required contents of each activity.

Table 1—Regulations and Information Collection Activities: Applications and Notices of Intent
Title | 18 CFR Cites | FERC-500 | FERC-505
Application for License for Major ² Unconstructed Project and Major Modified Project | 4.40 and 4.41 | Yes | Yes.
Application for License for Major Project—Existing Dam | 4.50 and 4.51 | Yes | Yes.
Application for License for Minor ³ Water Power Projects and Major Water Power Projects 10 Megawatts or Less | 4.60 and 4.61 | No | Yes.
Application for License for Transmission Line Only | 4.70 and 4.71 | Yes | Yes.
Exemption of Small Conduit Hydroelectric Facilities | 4.90 and 4.92 | No | Yes.
Exemption of Small Hydroelectric Power Projects of 10-Megawatts or Less | 4.101 and 4.107 | No | Yes.
Application for Amendment of License | 4.200 and 4.201 | Yes | Yes.
Notice of Intent to Construct Qualifying Conduit Hydropower Facilities | 4.400 and 4.401 | No | Yes.
Application Under the Integrated Licensing Process | 5.1 and 5.18 | Yes | Yes.

Each of the “contents” regulations listed above requires information that assists the Commission in identifying the respondent and the type of proposed project. In addition, certain types of applications must include all ⁴ or some ⁵ of the following exhibits:

² As defined at 18 CFR 4.30(b)(14) through 4.30(b)(16), a “major” project has a total installed generating capacity of more than 1.5 MW.

³ As defined at 18 CFR 4.30(b)(17), a “minor” project has a total installed generating capacity of 1.5 MW or less.

⁴ The following regulations require Exhibits A through G: 18 CFR 4.41, 4.51, 4.61, 4.71, 4.201(b)(1) and 4.201(b)(5).

⁵ The following regulations do not require Exhibits B, C, or D: 18 CFR 4.92 and 4.107. The regulations at 18 CFR 4.201(b)(2) through (b)(4) do not require Exhibits A, B, C, or D. The regulations at 18 CFR 5.18 do not require Exhibit E.

• Exhibit A is a description of the project.

• Exhibit B is a statement of project operation and resource utilization.

• Exhibit C is a proposed construction schedule for the project.

• Exhibit D is a statement of project costs and financing.

• Exhibit E is an environmental report.

• Exhibit F consists of general design drawings of the principal project works described under Exhibit A and supporting information used as the basis of design.

• Exhibit G is a map of the project.

No exhibits are required in a Notice of Intent to Construct Qualifying Conduit Hydropower Facilities under 18 CFR 4.401. However, the Notice of Intent must include:

• Statements that the proposed project will use the hydroelectric potential of a non-federally owned conduit and that the proposed facility has not been licensed or exempted from the licensing requirements and Part I of the FPA;

• A description of the proposed facility;

• Project drawings;

• If applicable, the preliminary permit number for the proposed facility; and

• Verification in accordance with 18 CFR 4.401(g).

In addition to the reporting requirements described above, FERC-500 and FERC-505 also contain requirements for those entities who ultimately receive a FERC license or exemption. Both information collections include an activity related to recreation signage (18 CFR 8.1 and 8.2) which is used to inform the public of appropriate uses at the project. FERC-500 includes an annual conveyance report (18 CFR 141.15) which must be submitted only if a conveyance of easements or rights-of-way across project lands, or a lease of project lands, has occurred in the previous year.

Types of Respondents: Entities requesting Licenses, Relicenses, Exemptions, or Qualifying Conduit Facility Determinations, and certain entities in receipt of Commission Licenses and Exemptions.

Estimate of Annual Burden: The burdens are itemized in detail in the following table:

Table 3—Estimated Annual Burdens
Type of response | Average annual number of respondents (1) | Average annual number of responses per respondent (2) | Total number of responses (1) * (2) = (3) | Average burden hours & cost per response (4) ⁶ | Total annual burden hours & total annual cost (rounded) (3) * (4) = (5) | Cost per respondent (rounded) (5) ÷ (1)
FERC-500, Application for License/Relicense for Water Projects with Greater than 10 MW Capacity | 12 | 1 | 12 | 35,602.55 hrs.; $3,667,063 | 427,230.6 hrs.; $44,004,752 | $3,667,063
FERC-500, Request for Authorization to Use Expedited Licensing Process | 1 | 1 | 1 | 40 hrs.; $4,120 | 40 hrs.; $4,120 | $4,120
FERC-500, Annual Conveyance Reports | 41 | 1 | 41 | 3 hrs.; $309 | 123 hrs.; $12,669 | $309
FERC-500, Recreation Posting | 432 | 1 | 432 | 0.5 hr.; $51.50 | 216 hrs.; $22,248 | $51.50
Subtotals for FERC-500 | 486 |  |  |  | 427,609.6 hrs. $44,043,789 |
FERC-505, for Small Hydropower Projects and Conduit Facilities including License/Relicense, Exemption, and Qualifying Conduit Facility Determinations | 31 | 1 | 31 | 756.59 hrs.; $77,929 | 23,454.29 hrs.; $2,415,791.87 | $77,929
FERC-505, Request for Authorization to Use Expedited Licensing Process | 1 | 1 | 1 | 40 hrs.; $4,120 | 40 hrs.; $4,120 | $4,120
FERC-505, Recreation Posting | 287 |  |  | 0.5 hr.; $51.50 | 143.5 hrs.; $14,780.5 | $51.50
Sub-Totals for FERC-505 | 319 |  |  | N/A | 23,637.79 hrs.; $2,434,692 |
Totals |  |  |  |  | 451,247.39 hrs. $46,478,481 |

Comments are invited on: (1) whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

⁶ The Commission staff estimates that the industry's hourly cost for wages plus benefits is similar to the Commission's $103 FY 2025 average hourly cost for wages and benefits.

Dated: September 23, 2025.
Carlos D. Clay,
Deputy Secretary.

[FR Doc. 2025-18733 Filed 9-25-25; 8:45 am]

BILLING CODE 6717-01-P